DEPARTMENT OF AGRICULTURE

Rural Utilities Service

Announcement of Grant Application Deadlines

AGENCY: Rural Utilities Service, USDA.

ACTION: Notice of Solicitation of Applications (NOSA).

SUMMARY: The Rural Utilities Service (RUS), an agency of the United States Department of Agriculture (USDA), announces its Distance Learning and Telemedicine (DLT) Grant Program application window for Fiscal Year (FY) 2015. RUS has published on its Web site http://www.rd.usda.gov/newsroom/notices-solicitation-applications-nosas the amount of funding received through the final appropriations act. Expenses incurred in developing applications will be at the applicant's risk.

In addition to announcing the application window, RUS announces the minimum and maximum amounts for DLT grants applicable for the fiscal year. The DLT Grant Program regulations can be found at 7 CFR part 1703, subparts D through G.

DATES: You may submit completed applications for grants on paper or electronically by the following deadline:

• Paper submissions: Paper submissions must be postmarked and mailed, shipped, or sent overnight no later than July 6, 2015 to be eligible for FY 2015 grant funding. Late or incomplete applications will not be eligible for FY 2015 grant funding.

• Electronic submissions: Electronic submissions must be received by July 6, 2015 to be eligible for FY 2015 grant funding. Late or incomplete applications will not be eligible for FY 2015 grant funding.

• If the submission deadline falls on Saturday, Sunday, or a Federal holiday, the application is due the next business day.

ADDRESSES: Copies of the FY 2015 Application Guide and materials for the DLT grant program may be obtained by the following:

(1) The DLT Web site: http://www.rd.usda.gov/programs-services/distance-learning-telemedicine-grants and

(2) Contacting the RUS Loan Origination and Approval Division at 202-720-0800.

Completed applications may be submitted in the following ways:

(1) Paper: Paper applications are to be submitted to the Rural Utilities Service, Telecommunications Program, 1400 Independence Ave. SW., Room 2808, STOP 1597, Washington, DC 20250-1597. Applications should be marked “Attention: Deputy Assistant Administrator, Loan Origination and Approval Division, Rural Utilities Service.”

(2) Electronic: Electronic applications must be submitted through Grants.gov. Information on how to submit applications electronically is available on the Grants.gov Web site (http://www.grants.gov). Applicants must successfully pre-register with Grants.gov to use the electronic applications option. Application information may be downloaded from Grants.gov without preregistration.

FOR FURTHER INFORMATION CONTACT: Shawn Arner, Deputy Assistant Administrator, Loan Origination and Approval Division, Rural Utilities Service, U.S. Department of Agriculture, Telephone: (202) 720-0800, fax: (202) 205-2921.

SUPPLEMENTARY INFORMATION:

Overview

Federal Agency: Rural Utilities Service (RUS).

Funding Opportunity Title: Distance Learning and Telemedicine Grants.

Announcement Type: Initial announcement.

Funding Opportunity Number: RUS-15-01-DLT.

Catalog of Federal Domestic Assistance (CFDA) Number: 10.855.

Dates: You may submit completed applications for grants on paper or electronically according to the deadlines indicated in section D(4).

A. Program Description

DLT grants are specifically designed to provide access to education, training and health care resources for rural Americans. The DLT Program is authorized by 7 U.S.C. 950aaa and provides financial assistance to encourage and improve telemedicine services and distance learning services in rural areas through the use of telecommunications, computer networks, and related advanced technologies to be used by students, teachers, medical professionals, and rural residents. Regulations for the DLT Program can be found at 7 CFR part 1703 (Subparts D through G).

The grants, which are awarded through a competitive process, may be used to fund telecommunications-enabled information, audio and video equipment, and related advanced technologies which extend educational and medical applications into rural areas. Grants are intended to benefit end users in rural areas, who are often not in the same location as the source of the educational or health care service.

As in years past, the FY 2015 DLT Grant Application Guide has been updated based on program experience. All applicants should carefully review and prepare their applications according to instructions in the FY 2015 Application Guide and sample materials when completing a DLT grant application.

Expenses incurred in developing applications will be at the applicant's own risk.

B. Federal Award Information

Under 7 CFR 1703.124, the Administrator has established a minimum grant amount of $50,000 and a maximum grant amount of $500,000 for FY 2015.

Award documents specify the term of each award. The Agency will make awards and successful applicants will be required to execute documents appropriate to the project prior to any advance of funds to successful applicants. Prior DLT grants cannot be renewed; however, applications from existing DLT awardees for new projects are acceptable (grant applications must be submitted during the application window) and will be evaluated as new applications.

C. Eligibility Information

1. Eligible Applicants (See 7 CFR 1703.103)

a. Only entities legally organized as one of the following are eligible for DLT grants:

i. An incorporated organization or a partnership,

ii. An Indian tribe or tribal organization, as defined in 25 U.S.C. 450b,

iii. A state or local unit of government,

iv. A consortium, as defined in 7 CFR 1703.102,

v. A library, or

vi. Other legal entity, including a private corporation organized on a for-profit or not-for-profit basis.

b. Individuals are not eligible for DLT program financial assistance directly.

c. Electric and telecommunications borrowers under the Rural Electrification Act of 1936 (7 U.S.C. 901 et seq.) are not eligible for grants.

d. Corporations that have been convicted of a Federal felony within the past 24 months are not eligible. Any corporation that has any unpaid federal tax liability that has been assessed, for which all judicial and administrative remedies have been exhausted or have lapsed, and that is not being paid in a timely manner pursuant to an agreement with the authority responsible for collecting the tax liability, is not eligible for financial assistance.

e. Applicants must have an active registration with current information in the System for Award Management (SAM) (previously the Central Contractor Registry (CCR)) at https:\\www.sam.gov and have a Dun and Bradstreet (D&B) Data Universal Numbering System (DUNS) number.

2. Cost Sharing or Matching

The DLT Program requires matching contributions for grants. See 7 CFR 1703.125(g) for information on required matching contributions.

a. Grant applicants must demonstrate matching contributions, in cash or in kind (new, non-depreciated items), of at least fifteen (15) percent of the total amount of financial assistance requested. Matching contributions must be used for eligible purposes of DLT grant assistance (see 7 CFR 1703.121 and section D(6)(a)(ii) of this Notice).

b. Greater amounts of eligible matching contributions may increase an applicant's score (see 7 CFR 1703.126(b)(4)).

c. Applications that do not provide evidence of the required fifteen percent match will be declared ineligible. See the FY 2015 Application Guide for more information on matching contributions.

d. Matching contributions which are not sufficiently documented are subject to disallowance and may result in an ineligible application.

e. Discounts. The DLT Program regulation provides that manufacturers' and service providers' discounts are not eligible matches. In the past, the Agency did not consider as eligible any proposed match from a vendor, manufacturer, or service provider whose products or services would also be purchased for the DLT project. However, the agency has now determined that if a vendor can demonstrate that the donated product is normally sold at the in-kind matching price, then it will accept such products for in-kind matches, and not at a discount. Similarly, if a vendor, manufacturer, or other service provider proposes a cash match (or any in-kind match) when their products or services will be purchased with grant or match funds, such products or services must be shown to be normally offered at, or higher than, the contract price of the products or services to be provided on the project.

f. Eligible Equipment & Facilities. Please see 7 CFR 1703.102 and the FY 2015 Application Guide for more information regarding eligible and ineligible items.

g. Apportioning budget items. Many DLT applications propose to use items for a blend of specific DLT eligible project purposes and other purposes. RUS will consider funding such items in the overall context of the project, but such items will affect the competitive value of the project compared with other projects. The proposed project could receive a lower score in the subjective areas of the grant to the extent that its budget requests items that have limited or questionable value to the purposes of distance learning or telemedicine. See the FY 2015 Application Guide for detailed information on how to apportion use and apportioning illustrations.

3. Other

a. Minimum Rurality Requirements. The DLT grant program is designed to bring the benefits of distance learning and telemedicine to residents of rural America. Therefore, to be eligible, applicants must deliver distance learning or telemedicine services to entities that operate a rural community facility or to residents of rural areas, at rates calculated to ensure that the benefit of the financial assistance is passed through to such entities or to residents of rural areas. All projects proposed for DLT grant assistance must meet a minimum rurality threshold, to ensure that benefits from the projects flow to rural residents.

b. Ineligibility of Projects in Coastal Barrier Resources Act Areas. Projects located in areas covered by the Coastal Barrier Resources Act (16 U.S.C. 3501 et seq.) are not eligible for financial assistance from the DLT Program. Please see 7 CFR 1703.123(a)(11).

D. Application and Submission Information

See the FY 2015 Application Guide for more information on the items that comprise a complete application. For requirements of completed grant applications you may also refer to 7 CFR 1703.125. The FY 2015 Application Guide provides specific, detailed instructions for each item that constitutes a complete application. The Agency strongly emphasizes the importance of including every required item and strongly encourages applicants to follow the instructions carefully, using the examples and illustrations in the FY 2015 Application Guide. Applications that do not include all items that determine project eligibility and applicant eligibility by the application deadline will be returned as ineligible. Scoring and eligibility information not provided by the application deadline will not be solicited or considered by the Agency. Applications that do not include all items necessary for scoring, depending on the specific scoring criteria, may still be eligible applications, but may not receive full or any credit if the information cannot be verified. Please see the FY 2015 Application Guide for a full discussion of each required item and for samples and illustrations.

1. Address to Request Application Package. The FY 2015 Application Guide, copies of necessary forms and samples, and the DLT Program regulation are available from these sources:

a. The Internet: http://www.rd.usda.gov/programs-services/distance-learning-telemedicine-grants.

b. The Rural Utilities Service, Loan Origination and Approval Division, for paper copies of these materials: 202-720-0800.

2. Content and Form of Application Submission.

Applicants are reminded that the DLT Grant Program is intended to meet the educational and health care needs of rural America. Hub sites may be located in rural or non-rural areas, but end-user sites need to be located in rural areas. Non-fixed sites serving a geographical service area may include non-rural areas.

If a grant application includes a site that is included in any other DLT grant application for FY 2015, or a site that has been included in any DLT grant funded in FY 2014 or FY 2013, the application should contain a detailed explanation of the related applications or grants. The Agency must make a nonduplication finding for each grant approved; however, an apparent but unexplained duplication of funding for a site can prevent such a finding.

a. Detailed information on each item included in the Table of Required Elements of a Completed Grant Application found in section D(2)(g) of this Notice can be found in the sections of the DLT Program regulation listed in the table, and the DLT grant Application Guide. Applicants are strongly encouraged to read and apply both the regulation and the Applications Guide, which describes the regulation.

i. When the table refers to a narrative, it means a written statement, description or other written material prepared by the applicant, for which no form exists. The Agency recognizes that each project is unique and requests narratives to allow applicants to explain their request for financial assistance.

ii. When documentation is requested, it means letters, certifications, legal documents, or other third-party documentation that provides evidence that the applicant meets the listed requirement. For example, to confirm rurality scores, applicants can use printouts from the Web site http://factfinder2.census.gov/faces/nav/jsf/pages/index.xhtml. Leveraging documentation generally will be letters of commitment from other funding sources. In-kind matches must be items purchased or donated after the application deadline date that are essential to the project and documentation from the vendor or donor must demonstrate the relationship of each item to the project's function. Evidence of legal existence is sometimes proven by submitting articles of incorporation. The examples here are not intended to limit the types of documentation that must be submitted to fulfill a requirement. DLT Program regulations and the Application Guide provide specific guidance on each of the items in the table.

b. The DLT Application Guide and ancillary materials provide all necessary sample forms and worksheets.The FY 2015 Application Guide also specifies the format and order of all required items.

c. Most DLT grant projects contain numerous project sites. The Agency requires that site information be consistent throughout an application. Sites must be referred to by the same designation throughout all parts of an application. The Agency has provided a site worksheet that requests the necessary information, and can be used as a guide by applicants. RUS strongly recommends that applicants complete the site worksheet, listing all requested information for each site. Applications without consistent site information will be returned as ineligible.

d. While the table in section D(2)(g) of this Notice includes all items of a completed application, the Agency may ask for additional or clarifying information for applications submitted by the deadline which appear to demonstrate that they meet eligibility requirements, but which may require follow up by the Agency.

e. Given the high volume of program interest, to expedite processing applicants are asked to submit the required application items in the order depicted in the FY 2015 Application Guide. The FY 2015 Application Guide specifies the format and order of all required items. Applications that are not assembled and tabbed in the order specified prevent timely determination of eligibility. For applications with inconsistency among submitted copies, the Agency will base its evaluation on the original signed application received by the Agency.

f. Compliance with other federal statutes.

The applicant must provide evidence of compliance with other federal statutes and regulations as provided in the FY 2015 Application Guide, including, but not limited to the following:

i. 7 CFR part 15, subpart A—Nondiscrimination in Federally-Assisted Programs of the Department of Agriculture—Effectuation of Title VI of the Civil Rights Act of 1964.

ii. 2 CFR part 417—Nonprocurement Debarment and Suspension.

iii. 2 CFR parts 200 and 400 (Uniform Assistance Requirements, Cost Principles and Audit Requirements For Federal Awards).

iv. 2 CFR part 182 (Governmentwide Requirements For Drug-Free Workplace (Financial Assistance)) and 2 CFR part 421 (Requirements For Drug Free Workplace (Financial Assistance)).

v. Executive Order 13166, “Improving Access to Services for Persons with Limited English Proficiency.” For information on limited English proficiency and agency-specific guidance, go to http://www.LEP.gov.

vi. Federal Obligation Certification on Delinquent Debt.

g. Table of Required Elements of a Completed Grant Application

Application item | REQUIRED items, unless otherwise noted: Grants (7 CFR 1703.125 and 7 CFR 1703.126) | REQUIRED items, unless otherwise noted: Comment
SF-424 (Application for Federal Assistance form) | Yes | Completely filled out.
Site Worksheet | Yes | Agency worksheet.
Survey on Ensuring Equal Opportunity for Applicants | Optional | OMB Form.
Evidence of Legal Authority to Contract with the Government | Yes | Documentation.
Evidence of Legal Existence | Yes | Documentation.
Executive Summary | Yes | Narrative.
Telecommunications System Plan and Scope of Work | Yes | Narrative & documentation such as maps and diagrams.
Budget | Yes | Agency Worksheets with documentation.
Financial Information/Sustainability | Yes | Narrative.
Statement of Experience | Yes | Narrative 3-page, single-spaced limit.
Rurality Worksheet | Yes | Agency worksheet with documentation.
National School Lunch Program (NSLP) Worksheet | Yes | Agency worksheet with documentation.
Leveraging Evidence and Funding Commitments from all Sources | Yes | Agency worksheet and source documentation.
Request for Additional NSLP | Optional | Agency Worksheet and narrative.
Need for and Benefits derived from Project | Yes | Narrative & documentation.
Innovativeness of the Project | Yes | Narrative & documentation.
Cost Effectiveness of Project | Yes | Narrative & documentation.
Consultation with the USDA State Director, Rural Development, and evidence that application conforms to State Strategic Plan, if any | Yes | Documentation.
Special Consideration | Optional | Documentation supporting end user site is in a Trust Area or Tribal Jurisdiction Area.
Certifications
Equal Opportunity and Nondiscrimination | Yes | Form provided in FY 2015 Application Tool Kit.
Architectural Barriers | Yes | Form provided in FY 2015 Application Tool Kit.
Flood Hazard Area Precautions | Yes | Form provided in FY 2015 Application Tool Kit.
Uniform Relocation Assistance and Real Property Acquisition Policies Act of 1970 | Yes | Form provided in FY 2015 Application Tool Kit.
Drug-Free Workplace | Yes | Form provided in FY 2015 Application Tool Kit.
Debarment, Suspension, and Other Responsibility Matters—Primary Covered Transactions | Yes | Form provided in FY 2015 Application Tool Kit.
Lobbying for Contracts, Grants, Loans, and Cooperative Agreements | Yes | Form provided in FY 2015 Application Tool Kit.
Non-Duplication of Services | Yes | Form provided in FY 2015 Application Tool Kit.
Environmental Impact/Historic Preservation Certification | Yes | Form provided in FY 2015 Application Tool Kit.
Assurance Regarding Felony Conviction or Tax Delinquent Status for Corporate Applicants | Yes | Form provided in the FY 2015 Application Tool Kit.

h. Number of copies of submitted applications.

i. Applications submitted on paper.

A. Submit the original application and two (2) copies to RUS; and

B. Submit one (1) additional copy to the state government single point of contact (if one has been designated) at the same time as you submit the application to the Agency for the State where the project is located. If the project is located in more than one State, submit a copy to each state government single point of contact. See http://www.whitehouse.gov/omb/grants_spoc for an updated listing of State government single points of contact.

ii. Electronically submitted applications. Grant applications may be submitted electronically. Please carefully read the FY 2015 Application Guide for guidance on submitting an electronic application. In particular, we ask that you identify and number each page in the same way you would a paper application so that we can assemble them as you intended.

iii. The additional paper copy is not necessary if you submit the application electronically through Grants.gov.

iv. Submit one (1) copy to the state government single point of contact (if one has been designated) at the same time as you submit the application to the Agency. If the project is located in more than one State, submit a copy to each state government single point of contact. See http://www.whitehouse.gov/omb/grants_spoc for an updated listing of State government single points of contact.

3. Dun and Bradstreet Universal Numbering System (DUNS) Number and System for Award Management (SAM). The applicant for a grant must supply a Dun and Bradstreet Data Universal Numbering System (DUNS) number as part of an application. The Standard Form 424 (SF-424) contains a field for the DUNS number. The applicant can obtain the DUNS number free of charge by calling Dun and Bradstreet. Please see http://fedgov.dnb.com/webform for more information on how to obtain a DUNS number or how to verify your organization's number.

Prior to submitting an application, the applicant must register in the System for Award Management (SAM) (formerly Central Contractor Registry, (CCR)). Applicants must register for the SAM at https://www.sam.gov/portal/public/SAM/. SAM registration must remain active with current information at all times while RUS is considering an application or while a Federal grant award is active. To maintain SAM registration the applicant must review and update the information in the SAM database annually from the date of initial registration or from the date of the last update. The applicant must ensure that the information in the database is current, accurate, and complete.

4. Submission Dates and Times.

a. Paper grant applications must be postmarked and mailed, shipped, or sent overnight no later than July 6, 2015 to be eligible for FY 2015 grant funding. Late applications, applications which do not include proof of mailing or shipping as described in section D(7)(a)(ii), and incomplete applications are not eligible for FY 2015 grant funding.

b. Electronic grant applications must be received by July 6, 2015 to be eligible for FY 2015 funding. Late or incomplete applications will not be eligible for FY 2015 grant funding.

c. If the submission deadline falls on Saturday, Sunday, or a Federal holiday, the application is due the next business day.

5. Intergovernmental Review. The DLT grant program is subject to Executive Order 12372, “Intergovernmental Review of Federal Programs.” As stated in section D(2)(h)(i)(B) of this Notice, a copy of a DLT grant application must be submitted to the state single point of contact if one has been designated. Please see http://www.whitehouse.gov/omb/grants_spoc to determine whether your state has a single point of contact.

6. Funding Restrictions.

a. Ineligible purposes.

i. Hub sites that are not located in rural areas are not eligible for grant assistance unless they are necessary to provide DLT services to end-users in rural areas. Please see 7 CFR 1703.101(h).

ii. To fulfill the policy goals laid out for the DLT Program in 7 CFR 1703.101, the following table lists purposes for financial assistance and whether each purpose is generally considered to be eligible for the form of financial assistance. Please consult the FY 2015 Application Guide and the program regulations (7 CFR 1703.102) for definitions, in combination with the portions of the regulation cited in the table, for detailed requirements for the items in the table. RUS strongly recommends that applicants exclude ineligible items from the grant and match portions of grant application budgets and reiterates that reimbursement of pre-award costs is not allowed. However, some items ineligible for funding or matching contributions may be vital to the project. RUS encourages applicants to document those costs in the application's budget. Please see the FY 2015 Application Guide for a recommended budget format, and detailed budget compilation instructions.

| Grants
Lease or purchase of new eligible DLT equipment and facilities | Yes, equipment only.
Acquire new instructional programming that is capital asset | Yes.
Technical assistance, develop instructional material for the operation of the equipment, and engineering or environmental studies in the implementation of the project | Yes, up to 10% of the grant.
Telemedicine or distance learning equipment or facilities necessary to the project | Yes.
Vehicles using distance learning or telemedicine technology to deliver services | No.
Teacher-student links located at the same facility | No.
Links between medical professionals located at the same facility | No.
Site development or building alteration, except for equipment installation and associated inside wiring | No.
Land or building purchase | No.
Building Construction | No.
Acquiring telecommunications transmission facilities | No (such facilities are only eligible for DLT loans).
Internet services, telecommunications services or other forms of connectivity | No.
Salaries, wages, benefits for medical or educational personnel | No.
Salaries or administrative expenses of applicant or project | No.
Recurring project costs or operating expenses | No (equipment & facility leases are not recurring project costs).
Equipment to be owned by the LEC or other telecommunications service provider, if the provider is the applicant | No.
Duplicative distance learning or telemedicine services | No.
Any project that for its success depends on additional DLT financial assistance or other financial assistance that is not assured | No.
Application Preparation Costs | No.
Other project costs not in regulation | No.
Cost (amount) of facilities providing distance learning broadcasting | No.
Reimburse applicants or others for costs incurred prior to RUS receipt of completed application | No.

7. Other Submission Requirements.

Grant applications may be submitted on paper or electronically.

a. Submitting applications on paper.

i. Address paper applications to the Telecommunications Program, RUS, U.S. Department of Agriculture, 1400 Independence Ave. SW., Room 2808, STOP 1597, Washington, DC 20250-1550. Applications should be marked “Attention: Deputy Assistant Administrator, Loan Origination and Approval Division.”

ii. Paper grant applications must show proof of mailing or shipping by the deadline consisting of one of the following:

A. A legibly dated U.S. Postal Service (USPS) postmark;

B. A legible mail receipt with the date of mailing stamped by the USPS; or

C. A dated shipping label, invoice, or receipt from a commercial carrier.

iii. Due to screening procedures at the U.S. Department of Agriculture, packages arriving via regular mail through the USPS are irradiated, which can damage the contents and delay delivery to the DLT Program. RUS encourages applicants to consider the impact of this procedure in selecting their application delivery method.

b. Electronically submitted applications.

i. Applications will not be accepted via fax or electronic mail.

ii. Electronic applications for grants must be submitted through the Federal government's Grants.gov initiative at http://www.grants.gov/.

iii. How to use Grants.gov.

A. Grants.gov contains full instructions on all required passwords, credentialing and software.

B. System for Award Management. Submitting an application through Grants.gov requires that your organization list in the System for Award Management (SAM) (formerly Central Contractor Registry, CCR). The Agency strongly recommends that you obtain your organization's DUNS number and SAM listing well in advance of the deadline specified in this notice. See section C(1)(e) for more information on SAM.

C. Credentialing and authorization of applicants. Grants.gov will also require some credentialing and online authentication procedures. These procedures may take several business days to complete, further emphasizing the need for early action by applicants to complete the sign-up, credentialing and authorization procedures at Grants.gov before you submit an application at that Web site.

D. Some or all of the SAM and Grants.gov registration, credentialing and authorizations require updates. If you have previously registered at Grants.gov to submit applications electronically, please ensure that your registration, credentialing and authorizations are up to date well in advance of the grant application deadline.

iv. RUS encourages applicants who wish to apply through Grants.gov to submit their applications in advance of the deadlines.

v. If a system problem occurs or you have technical difficulties with an electronic application, please use the customer support resources available at the Grants.gov Web site.

E. Application Review Information

1. Criteria.

a. Grant application scoring criteria (total possible points: 235). See 7 CFR 1703.125 for the items that will be reviewed during scoring, and 7 CFR 1703.126 and section E.3 of this NOSA for scoring criteria.

b. Grant applications are scored competitively subject to the criteria listed below.

i. Rurality category—Rurality of the proposed service area (up to 45 points).

ii. NSLP category—percentage of students eligible for the NSLP in the proposed service area (up to 35 points).

iii. Leveraging category—matching funds above the required matching level (up to 35 points).

iv. Need for services proposed in the application and the benefits that will be derived if the application receives a grant (up to 55 points).

A. Additional NSLP category—up to 10 of the possible 55 possible points are to recognize economic need not reflected in the project's National School Lunch Program (NSLP) score, and can be earned only by applications whose overall NSLP eligibility is less than 50%. To be eligible to receive points under this category, the application must include an affirmative request for consideration of the possible 10 points, and compelling documentation of reasons why the NSLP eligibility percentage does not represent the economic need of the proposed project beneficiaries.

B. Needs and Benefits category—up to 45 of the 55 possible points under this criterion are available to all applicants. Points are awarded based on the required narrative crafted by the applicant that documents the need for services and the benefits derived from such services. RUS encourages applicants to carefully read the cited portions of the Program regulation and the FY 2015 Application Guide for full discussions of this criterion.

v. Innovativeness category—level of innovation demonstrated by the project (up to 15 points).

vi. Cost Effectiveness category—system cost-effectiveness (up to 35 points).

vii. Special Consideration Areas—Application must contain at least one end-user site within a trust area or a tribal jurisdictional area (15 points).

2. Review and Selection Process.

Grant applications are ranked by final score. RUS selects applications based on those rankings, subject to the availability of funds. In addition, the Agency has the authority to limit the number of applications selected in any one state, or for one project, during a fiscal year. See 7 CFR 1703.127 for a description of the grant application selection process. In addition, it should be noted that an application receiving fewer points can be selected over a higher scoring application in the event that there are insufficient funds available to cover the costs of the higher scoring application, as stated in 7 CFR 1703.172(b)(3).

a. In addition to the scoring criteria that rank applications against each other, the Agency evaluates grant applications for possible awards on the following items, in accordance with 7 CFR 1703.127:

i. Financial feasibility. A proposal that does not indicate financial feasibility or that is not sustainable will not be approved for an award.

ii. Technical considerations. If the application contains flaws that would prevent the successful implementation, operation or sustainability of a project, the Agency will not award a grant.

iii. Other aspects of proposals that contain inadequacies that would undermine the ability of the project to comply with the policies of the DLT Program.

b. Special considerations or preferences.

i. American Samoa, Guam, Virgin Islands, and Northern Mariana Islands applications are exempt from the matching requirement for awards having a match amount of up to $200,000 (see 48 U.S.C. 1469a; 91 Stat. 1164).

ii. Special Consideration Areas. RUS will offer special consideration to applications that contain at least one end-user site within a trust area or a tribal jurisdictional area. Such applications will be awarded 15 points. The application must include a map showing the end-user site(s) located in the trust area or tribal jurisdictional area, as well as the geographical coordinate(s), and physical address(es) of the end-user site(s). The applicant will also need to submit evidence indicating that the area where the end-user site is located is a trust area or a tribal jurisdictional area.

RUS will use one or more of the following resources in determining whether a particular end-user site is located in a trust area or a tribal jurisdictional area:

A. Official maps of Federal Indian Reservations based on information compiled by the U.S. Department of the Interior, Bureau of Indian Affairs, and made available to the public;

B. Title Status Reports issued by the U.S. Department of the Interior, Bureau of Indian Affairs showing that title to such land is held in trust or is subject to restrictions imposed by the United States;

C. Trust Asset and Accounting Management System data, maintained by the Department of the Interior, Bureau of Indian Affairs;

D. Official maps of the Department of Hawaiian Homelands of the State of Hawaii identifying land that has been given the status of Hawaiian home lands under the provisions of section 204 of the Hawaiian Homes Commission Act, 1920;

E. Official records of the U.S. Department of the Interior, the State of Alaska, or such other documentation of ownership as RUS may determine to be satisfactory, showing that title is owned by a Regional Corporation or a Village Corporation as such terms are defined in the Alaska Native Claims Settlement Act (43 U.S.C. 1601 et seq.);

F. Evidence that the land is located on Guam, American Samoa or the Commonwealth of the Northern Mariana Islands, and is eligible for use in the U.S. Department of Veterans Affairs' direct loan program for veterans purchasing or constructing homes on communally owned land; and

G. Any other evidence submitted by the applicant that is satisfactory to RUS to establish that area where the end-user site is located is a trust area or a tribal jurisdictional area within the meaning of 38 U.S.C. 3765(1).

b. Clarification: DLT grant applications which have non-fixed end-user sites, such as ambulance and home health care services, are scored according to the location of the hub or hubs used for the project. For Hybrid Projects which combine a non-fixed portion of a project to a fixed portion of a project, the Rurality Score and NSLP score will be based on the score of the end sites of the fixed portion plus the score of the hub that serves the non-fixed portion. See the FY 2015 Application Guide for specific guidance on preparing an application with non-fixed end users.

F. Federal Award Administration Information

1. Federal Award Notices

RUS generally notifies by mail applicants whose projects are selected for awards. The mere receipt of an award letter does not serve to authorize the applicant to commence performance under the award. The Agency follows the award letter with an agreement that contains all the terms and conditions for the grant. A copy of the standard agreement is posted on the RUS Web site at http://www.rd.usda.gov/programs-services/distance-learning-telemedicine-grants. An applicant must execute and return the agreement, accompanied by any additional items required by the agreement, within the number of days shown in the selection notice letter.

2. Administrative and National Policy Requirements

The items listed in Section E of this notice, the DLT Program regulation, FY 2015 Application Guide and accompanying materials implement the appropriate administrative and national policy requirements, which includes but is not limited to:

a. Execute a Distance Learning and Telemedicine Grant Agreement;

b. Use Form SF 270, “Request for Advance or Reimbursement,” to request reimbursements (along with the submission of receipts for expenditures, timesheets, and any other documentation to support the request for reimbursement);

c. Provide annual project performance activity reports until the expiration of the award;

d. Ensure that records are maintained to document all activities and expenditures utilizing DLT grant funds and matching funds (receipts for expenditures are to be included in this documentation);

e. Provide a final project performance report;

f. Comply with policies, guidance, and requirements as described in the following applicable Code of Federal Regulations, and any successor regulations:

i. 2 CFR parts 200 and 400 (Uniform Administrative Requirements, Cost Principles, and Audit Requirements For Federal Awards); and

ii. 2 CFR parts 417 and 180 (Government-wide Debarment and Suspension (Nonprocurement); and

g. Sign Form AD-3031 (“Assurance Regarding Felony Conviction or Tax Delinquent Status for Corporate Applicants”) (for corporate applicants only).

3. Reporting

a. Performance reporting. All recipients of DLT financial assistance must provide annual performance activity reports to RUS until the project is complete and the funds are expended. A final performance report is also required; the final report may serve as the last annual report. The final report must include an evaluation of the success of the project in meeting DLT Program objectives. See 7 CFR 1703.107 for additional information on these reporting requirements.

b. Financial reporting. All recipients of DLT financial assistance must provide an annual audit, beginning with the first year in which a portion of the financial assistance is expended. Audits are governed by United States Department of Agriculture audit regulations. Please see 7 CFR 1703.108 and Subpart F (Audit Requirements) of 2 CFR part 200 for a description of the financial reporting requirements of all recipients of DLT financial assistance.

c. Recipient and Subrecipient Reporting. The applicant must have the necessary processes and systems in place to comply with the reporting requirements for first-tier sub-awards and executive compensation under the Federal Funding Accountability and Transparency Act of 2006 in the event the applicant receives funding unless such applicant is exempt from such reporting requirements pursuant to 2 CFR part 170, § 170.110(b). The reporting requirements under the Transparency Act pursuant to 2 CFR part 170 are as follows:

i. First Tier Sub-Awards of $25,000 or more (unless they are exempt under 2 CFR part 170) must be reported by the Recipient to http://www.fsrs.gov no later than the end of the month following the month the obligation was made. Please note that currently underway is a consolidation of eight federal procurement systems, including the Sub-award Reporting System (FSRS), into one system, the System for Award Management (SAM). As result the FSRS will soon be consolidated into and accessed through https://www.sam.gov/portal/public/SAM/.

ii. The Total Compensation of the Recipient's Executives (5 most highly compensated executives) must be reported by the Recipient (if the Recipient meets the criteria under 2 CFR part 170) to https://www.sam.gov/portal/public/SAM/ by the end of the month following the month in which the award was made.

iii. The Total Compensation of the Subrecipient's Executives (5 most highly compensated executives) must be reported by the Subrecipient (if the Subrecipient meets the criteria under 2 CFR part 170) to the Recipient by the end of the month following the month in which the subaward was made.

d. Record Keeping and Accounting. The grant contract will contain provisions relating to record keeping and accounting requirements.

G. Federal Awarding Agency Contacts

1. Web site: http://www.rd.usda.gov/programs-services/distance-learning-telemedicine-grants. The DLT Web site maintains up-to-date resources and contact information for DLT programs.

2. Telephone: 202-720-0800.

3. Fax: 202-205-2921.

4. Email: dltinfo@wdc.usda.gov.

5. Main point of contact: Shawn Arner, Deputy Assistant Administrator, Loan Origination and Approval Division, Rural Utilities Service.

H. Other Information

1. USDA Non-Discrimination Statement

USDA prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by USDA. (Not all prohibited bases will apply to all programs and/or employment activities.)

2. How To File a Complaint

If you wish to file an employment complaint, you must contact your agency's EEO Counselor within 45 days of the date of the alleged discriminatory act, event, or in the case of a personnel action. Additional information can be found online at http://www.ascr.usda.gov/complaint_filing_file.html.

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

3. Persons With Disabilities

Individuals who are deaf, hard of hearing or have speech disabilities and that wish to file either an EEO or program complaint may contact USDA through the Federal Relay Service at (800) 877-8339 or (800) 845-6136 (in Spanish).

Persons with disabilities who wish to file a program complaint, please see information above on how to contact us by mail directly or by email. If you require alternative means of communication for program information (e.g., Braille, large print, audiotape, etc.) please contact USDA's TARGET Center at (202) 720-2600 (voice and TDD).

Dated: May 14, 2015.
Brandon McBride,
Administrator, Rural Utilities Service.

[FR Doc. 2015-12222 Filed 5-21-15; 8:45 am]

BILLING CODE P